DEPARTMENT OF EDUCATION

RIN 1830 ZA04

Smaller Learning Communities Program

AGENCY: Office of Vocational and Adult Education, Department of Education.

ACTION: Notice of final requirements, priorities, and selection criteria for Fiscal Year (FY) 2003 and subsequent years funds.

SUMMARY: The Assistant Secretary for Vocational and Adult Education announces final requirements, priorities, and selection criteria under the Smaller Learning Communities (SLC) Program. The Assistant Secretary will use these requirements, priorities, and selection criteria for a competition using fiscal year (FY) 2003 funds and may use them in later years.

We intend these final requirements, priorities and selection criteria to further the purpose of the SLC program, which is to promote academic achievement through the planning, implementation or expansion of small, safe and successful learning environments in large public high schools.

EFFECTIVE DATE: These final requirements, priorities and selection criteria are effective April 14, 2004.

FOR FURTHER INFORMATION CONTACT: Deborah Williams, U.S. Department of Education, OVAE MES room 5518, 400 Maryland Avenue, SW., Washington, DC 20202-7120. Telephone: (202) 205-0242 or via Internet at deborah.williams@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The Smaller Learning Communities program is authorized under title V, part D, subpart 4 of the Elementary and Secondary Education Act of 1965 (ESEA) (20 U.S.C. 7249), as amended by Public Law 107-110, the No Child Left Behind Act of 2001.

The No Child Left Behind Act of 2001 is the most sweeping reform of Federal education policy in a generation. It is designed to implement the President's agenda to improve America's public schools by: (1) Ensuring accountability for results, (2) providing unprecedented flexibility in the use of Federal funds in implementing education programs, (3) focusing on proven educational methods, and (4) expanding educational choice for parents. Since the enactment of the original ESEA in 1965, the Federal Government has spent more than $130 billion to improve public schools. Unfortunately, this investment in education has not yet eliminated the achievement gap between affluent and lower-income students or between minority students and non-minority students.

One strategy that holds promise for improving the academic performance of our Nation's young people is the establishment of smaller learning communities as components of comprehensive high school improvement plans. The problems of large high schools and the related question of optimal school size have been debated for the last 40 years and are of growing interest today. Approximately 50 percent of American high schools enroll 1,000 or more students; nearly 70 percent of high school students attend schools enrolling more than 1,500 students. Some students attend schools enrolling as many as 4,000 to 5,000 students.

While the research on school size to date has been largely non-experimental, there is a growing body of evidence that suggests that smaller schools may have advantages over larger schools. Research suggests that the positive outcomes associated with smaller schools stem from the schools' ability to create close, personal environments in which teachers can work collaboratively, with each other and with a small set of students, to challenge students and support learning. A variety of structures and operational strategies are thought to provide important supports for smaller learning environments; some data suggest that these approaches offer substantial advantages to both teachers and students (Ziegler 1993; Caroll 1994).

Structural changes for recasting large schools as a set of smaller learning communities are described in the Conference Report for the Consolidated Appropriations Act, 2000 (Pub. L. 106-113, H.R. Conference Report No. 106-479, at 1240 (1999)). These methods and strategies include establishing small learning clusters, “houses,” career academies, magnet programs, and schools-within-a-school. Other activities may include: Freshman transition activities, advisory and adult advocate systems, academic teaming, multi-year groupings, “extra help” or accelerated learning options for students or groups of students entering below grade level, and other innovations designed to create a more personalized high school experience for students. These structural changes and personalization strategies, by themselves, are not likely to improve student academic achievement. They do, however, create valuable opportunities to improve the quality of instruction and curriculum, and to provide the individualized attention and academic support that all students need to excel academically. The SLC program encourages Local Education Agencies (LEAs) to set higher academic expectations for all of their students and to use these strategies to provide students with the effective instruction and personalized academic and social support they need to meet those expectations.

We published a notice of proposed requirements, priorities, and selection criteria for Fiscal Year (FY) 2003 and subsequent years funds in the Federal Register on January 7, 2004 (69 FR 1066). This notice of final requirements, priorities, and selection criteria contains several significant changes from the notice of proposed requirements, priorities, and selection criteria. We fully explain these changes in the Analysis of Comments and Changes section elsewhere in this notice.

Analysis of Comments and Changes

In response to our invitation in the notice of proposed requirements, priorities, and selection criteria 16 parties submitted comments. An analysis of the comments and of any changes in the requirements, priorities, or selection criteria since publication of the notice of proposed requirements, priorities, and selection criteria follows.

Comments: Several commenters suggested we make clear under Types of Grants that Implementation Grant awardees are expected to begin program implementation in the first year of funding. The commenters suggested we require some actual outcomes in the first year of the grant and not allow grantees to use the first year for planning purposes.

Discussion: We agree that the requirement would be clearer with the change recommended by the commenters. The Implementation Grant is awarded to applicants who are expected to have the capacity to implement new smaller learning communities or expand an existing program. The first year is not to be used for planning purposes.

Changes: We have changed the timeframe for determining whether an Implementation Grant should be classified as High Risk as a result of several factors, including not making substantial progress in specific goals set by the applicant.

Comments: Several commenters suggested the award ranges for Implementation Grants, especially those with larger high schools, be increased.

Discussion: We agree that the schools with larger student populations require higher funding levels to carry out the complex reform activities of this program, support the additional staff needed to provide the more personalized education that will result from implementing smaller learning communities, and procure the services of a qualified third party for an external evaluation of the project.

Changes: We have increased the award ranges for schools with student enrollments of more than 1,000 through more than 3,000 in this notice.

Comments: Several commenters requested clarification regarding an LEA applying for a grant on behalf of a consortium of districts. The commenters asked whether an intermediate school district could apply on behalf of a consortium of schools.

Discussion: If an entity is an LEA, has governing authority over eligible schools, and meets other eligibility requirements, the LEA may apply for a planning grant and/or an implementation grant as the fiscal agent for a consortium of two or more districts on behalf of their eligible schools.

Changes: None.

Comments: Several commenters sought clarification regarding whether adequate yearly progress would be the only indicator for review of the progress of SLCs.

Discussion: Adequate yearly progress will not be the only factor used to determine progress. Several factors will be used to review the progress of SLCs, including progress in achieving planned objectives, data submitted in response to performance indicators, the annual performance reports from the projects, the evaluation reports from the projects, and site visits to the projects.

Changes: None.

Comments: Several commenters sought clarification regarding placement of students and whether magnet programs are eligible as an SLC program.

Discussion: Magnet programs may be eligible as SLCs. This notice requires that students be placed at random or by student/parent choice to participate in an SLC program. They cannot be placed as a result of testing, any form of competition, or any other judgment. Magnet programs are eligible as SLC programs if they do not use any form of testing or selection process other than random selection or student/parent choice for placement of students.

Changes: None.

Comments: Several commenters sought clarification and several commenters requested a change in the requirement regarding funding schools that have benefited from previous planning and implementation grants.

Discussion: We are seeking to provide access to SLC grant funds to more districts across the country. Therefore schools that received funds through planning grants in a prior year's competition will not be eligible to apply for additional planning grants and schools that received funds through implementation grants in a prior year's competition will not be eligible to apply for additional implementation grants. Grantees are expected to work toward sustainability of funding to support programs after the federal funding period.

Changes: None.

Note: This notice of final requirements, priorities and selection criteria does not solicit applications. In any year in which we choose to use these requirements, priorities and selection criteria, we invite applications through a notice in the Federal Register.

Application Requirements

The Assistant Secretary announces the following application requirements for the SLC program. These requirements are in addition to the content that all Smaller Learning Communities grant applicants must include in their applications as required by the program statute under title V, part D, subpart 4, section 5441(b) of the ESEA. A discussion of each application requirement follows:

A. Proof of Eligibility

To be considered for funding, LEAs must identify in their applications the name(s) of the eligible school(s) and the number of students enrolled in each school. Enrollment figures must be based upon data from the current school year or data from the most recently completed school year. We will not accept applications from LEAs applying on behalf of schools that are being constructed and do not have an active student enrollment at the time of application.

B. School Report Cards

We require that LEAs provide, for each school included in the application, the most recent “report card” produced by the State or the LEA to inform the public about the characteristics of the school and its students and student academic achievement and other student outcomes. These “report cards” must include, at a minimum, the information that LEAs are required to report for each school under section 1111(h)(2)(B)(ii) of the ESEA: (1) Whether the school has been identified for school improvement; and (2) information that shows how the academic assessments and other indicators of adequate yearly progress compare to students in the LEA and the State performance of the school's students on the statewide assessment as a whole.

C. Types of Grants

The Secretary will award two types of grants in this competition: (1) Planning grants, which will be awarded to support planning, design, and other preparatory activities that culminate in the development of a detailed plan for the implementation of a smaller learning communities program in a school; and (2) implementation grants, which will be awarded to applicants to support the implementation of a new smaller learning community program within each targeted high school, or to expand an existing smaller learning community program.

Planning grants will be awarded for a period of up to 12 months, and implementation grants will be awarded for a period of up to 36 months. We require that applicants for implementation grants provide detailed, yearly budget information for the total grant period requested. Understanding the unique complexities of implementing a program that affects a school's organization, physical design, curriculum, instruction, and preparation of teachers, we anticipate awarding the entire amount for implementation grants at the time of the initial award.

Applicants pursuing planning grant funds must not yet have developed a viable plan for creating smaller learning communities in the school(s) that will be served by the grant. To apply for implementation grant funds, applicants must be prepared to implement a new smaller learning communities program within each targeted high school, or to expand an existing smaller learning communities program. The first year of implementation grant funds is not to be used for planning purposes.

D. Applications on Behalf of Multiple Schools

In an effort to encourage systemic, district-level reform efforts, the Secretary is permitting an individual LEA to submit only one planning grant application and one implementation grant application in a competition, specifying in each application which high schools the LEA intends to fund.

An LEA may not apply on behalf of a high school for which it does not have governing authority, such as a high school in a neighboring school district. An LEA, however, may form a consortium with another LEA and submit a joint application for funds. They must follow the procedures for group applications described in 34 CFR 75.127-75.129 in EDGAR.

An LEA may not apply for both a planning and implementation grant on behalf of the same high school. A single high school could be included in either the LEA's planning grant application or its implementation grant application, but not both. An LEA may apply only for one planning grant and one implementation grant whether the LEA applies independently or as part of a consortium application.

E. Award Ranges/Project Periods

For a one-year planning grant, LEAs applying on behalf of only one school are eligible for a grant in the range of $25,000 to $50,000. LEAs applying on behalf of a group of eligible schools may receive up to $250,000 per planning grant depending on the number of schools included in the application. To ensure sufficient planning funds at the local level, LEAs may not request funds for more than 10 schools in a single application for a planning grant. The following chart provides the ranges for awards for planning grants:

Planning Grants
Number of schools in LEA application | Award ranges
One School | $25,000-$50,000
Two Schools | $50,000-$100,000
Three Schools | $75,000-$150,000
Four Schools | $100,000-$200,000
Five Schools | $125,000-$250,000
Six Schools | $150,000-$250,000
Seven Schools | $175,000-$250,000
Eight Schools | $200,000-$250,000
Nine Schools | $225,000-$250,000
Ten Schools | $250,000

Applicants requesting more funds than the maximum amounts specified for any school or for the total grant will be declared ineligible for funding, and their applications will not be read. However, an applicant may request an amount lower than the suggested minimum for an individual school or for the overall grant based on the pertinent number of schools.

Schools that received funding through planning grants in a prior year competition will not be eligible to receive funding for additional planning grants in this or future competitions.

For a 36-month implementation grant, LEAs may receive, on behalf of a single school, $250,000 to $550,000, depending upon the size of the school. LEAs applying on behalf of a group of eligible schools could receive up to $5,500,000 per implementation grant. Implementation grants are designed to support extensive redesign and improvement efforts, professional development, direct student services, and other activities associated with creating or expanding a smaller learning community program. To ensure that sufficient funds are available to support implementation activities, LEAs may not request funds for more than 10 schools in a single application for an implementation grant.

The following chart provides the ranges of awards per high school for implementation grants:

Implementation Grants
Student enrollment | Award ranges per school
1,000-1,500 Students | $250,000-$300,000
1,501-2,000 Students | $250,000-$400,000
2,001-2,500 Students | $250,000-$450,000
2,501-3,000 Students | $250,000-$500,000
More than 3,000 Students | $250,000-$550,000

Applicants requesting more funds than the maximum amounts specified for any school or for the total grant would be declared ineligible for funding, and their applications will not be read. However, an applicant may request an amount lower than the suggested minimum for an individual school or for the overall grant based on the pertinent number of schools.

Schools that received funding through implementation grants in a prior year competition will not be eligible to receive funding for additional implementation grants in this or future competitions.

In previous SLC competitions, some applicants have requested more funds than the amount that we indicated would be available for a grant. Their applications included any number of activities that could only be made possible if the applicants received a funding amount that exceeded the maximum amount specified in the notice. This strategy put at a competitive disadvantage other applicants who requested funds within the specified funding range and outlined a less extensive set of activities. For this reason, we will fund only those applications that request an amount that does not exceed the maximum amounts specified for planning and implementation grants.

The actual size of awards will be based on a number of factors. These factors include the scope, quality, and comprehensiveness of the proposed program, and the range of awards indicated in the application.

F. Student Placement

Section 5441(b)(13) of the ESEA, as amended by the No Child Left Behind Act of 2001, requires applicants for SLC grants to describe the method of placing students in the smaller learning community or communities, such that students are not placed according to ability or any other measure, but are placed at random or by student/parent choice, and not pursuant to testing or other judgments. For instance, projects that place students in any smaller learning community on the basis of their prior academic achievement or performance on an academic assessment are not eligible for assistance under this program.

To be considered for funding, applicants for planning grants must include in their application an assurance that the applicant will identify, as part of the planning process, methods of selecting or placing students in a smaller learning community that are not according to ability or any other measure but are at random or by student/parent choice, and not pursuant to testing or other judgments.

Applicants for implementation grants must include an assurance/description of how students will be selected or placed in a smaller learning community such that students will not be placed according to ability or any other measure, but will be placed at random or by student/parent choice, and not pursuant to testing or other judgments.

G. Including All Students

Applicants for planning grants are required to develop plans to implement or expand a smaller learning community program that will include every student within the school by no later than the end of the fourth school year of implementation. Applicants for implementation grants are required to implement or expand a smaller learning community program that will include every student within the school by no later than the end of the fourth school year of implementation. Elsewhere in this notice, we define a smaller learning community as an environment in which a core group of teachers and other adults within the school know the needs, interests and aspirations of each student well, closely monitor his or her progress, and provide the academic and other support he or she needs to succeed.

H. Reporting Requirement for Recipients of Planning Grants

We require recipients of planning grants to include as part of their final performance report a copy of the implementation plan they developed during the project period.

I. Performance Indicators

The Secretary requires applicants for implementation grants to identify in their application specific performance indicators and annual performance objectives for each of these indicators. Specifically, applicants are required to use the following performance indicators to measure the progress of each school:

1. The percentage of students who scored at the proficient and advanced levels on the reading/language arts and mathematics assessments used by the State to measure adequate yearly progress under Part A of Title I of ESEA, disaggregated by subject matter and the following subgroups:

a. All students;

b. Major racial and ethnic groups;

c. Students with disabilities;

d. Students with limited English proficiency; and

e. Economically disadvantaged students.

2. The school's graduation rate, as defined in the State's approved accountability plan for Part A of Title I of ESEA;

3. The percentage of graduates who enroll in postsecondary education, apprenticeships, or advanced training for the semester following graduation; and

4. The percentage of graduates who are employed by the end of the first quarter after they graduate (e.g., for students who graduate in May or June, this would be September 30).

In addition to the four required indicators listed above, applicants may choose to set performance levels for other appropriate indicators, such as:

1. Rates of average daily attendance and year-to-year retention;

2. Achievement and gains in English proficiency of limited English proficient students;

3. The incidence of school violence, drug and alcohol use, and disciplinary actions;

4. The percentage of students completing advanced placement courses, and the rate of passing advanced placement tests (such as Advanced Placement, International Baccalaureate, and courses for college credit); and

5. The level of teacher, student, and parent satisfaction with the Smaller Learning Communities structures and strategies being implemented.

Applicants for implementation grants are required to include in their applications their most recent School Report Card. Upon receipt of awards, recipients of implementation grants will be required to provide baseline data responding to each of these indicators for the three years preceding the baseline year. Specific instructions will be sent from us to grant recipients. Recipients of implementation grants will be required to report annually on the extent to which each school achieved its performance objectives for each indicator during the preceding school year. Additionally, implementation grantees will have to submit a final Annual Performance Report at the end of the fourth year of implementation. We require grantees to include in these reports comparable data, if available, for the preceding three school years so that trends in performance will be more apparent.

J. Evaluation of Implementation Grants

The Assistant Secretary requires recipients of implementation grants to support an evaluation of the project that will provide information to the project director and school personnel that will be useful in gauging their progress and in identifying areas for improvement. Each project must include an annual evaluation report for each of the three years of the project period and a final evaluation report that will be completed at the end of the fourth year of implementation. We require that grantees submit each of these reports to us.

In addition, the Assistant Secretary requires that the evaluation be conducted by an independent third party whose role in the project is limited to conducting the evaluation.

K. Forty-Eight (48) Month Management Plan

The Assistant Secretary requires applicants for implementation grants to include in their applications a management plan for the 12 months following the end of the 36-month project period, and a budget for these activities that will be supported by other Federal, State, local, or private funds. Recipients of implementation grants are required to submit to us a copy of the final evaluation report and a final Annual Performance Report that will be completed at the end of the fourth year of implementation.

L. High-Risk Status and Other Enforcement Mechanisms

Applicants should note that the requirements listed in this notice are material requirements. Failure to comply with any requirement or with any elements of the grantee's application may subject the grantee to administrative action, including but not limited to designation as a “high-risk” grantee, the imposition of special conditions, or termination of the grant. Circumstances that might cause the Department to take such action include, but are not limited to: The grantee's failure to show improvement on the required performance indicators by the end of the first year of implementation; the grantee's failure to demonstrate that performance remains above the baseline level; the grantee's failure to make substantial progress in completing the milestones outlined in the management plan as submitted in the application; and the grantee's expenditure of funds in a manner that is inconsistent with the budget as submitted in the application. The grantee's failure to carry out its plans for sustaining the program into the fourth year of implementation may be taken into account in a future competition in accordance with 34 CFR 75.217(d)(3). We may institute other remedies as appropriate.

M. Definitions

In addition to the definitions set out in the authorizing statute and 34 CFR 77.1, the following definitions also apply to this program:

Large High School: A large high school is an entity that includes grades 11 and 12 and has an enrollment of 1,000 or more students in grades 9 and above.

Smaller Learning Community: A smaller learning community is an environment in which a core group of teachers and other adults within the school know the needs, interests, and aspirations of each student well, closely monitor his or her progress, and provide the academic and other support he or she needs to succeed.

BIA School: A BIA school is a school operated or supported by the Bureau of Indian Affairs.

Selection Criteria

The following criteria will be used to evaluate applications submitted for planning and implementation grants. Please note:

(a) The maximum score for both a planning and an implementation grant is 100 points.

(b) The maximum score for each criterion or factor under that criterion is indicated in parentheses.

Planning Grants

(a) Need for the project (10 points). In determining the need for the proposed project, we will consider the extent to which:

(1) (7 points) The applicant will devise a plan or plans to assist school(s) that have the greatest need for assistance relative to other high schools within the State, as indicated by_

(A) Student performance on the academic assessments in reading/language arts and mathematics administered by the State under Part A, Title I of the ESEA;

(B) Gaps in performance between all students and economically disadvantaged students, students from major racial and ethnic groups, students with disabilities, and students with limited English proficiency on the academic assessments in reading or language arts and mathematics administered by the State under Part A, Title I of the ESEA;

(C) The school's graduation rate, and gaps in the graduation rate between all students and economically disadvantaged students, students from major racial and ethnic groups, students with disabilities, and students with limited English proficiency;

(D) Disciplinary actions and reported incidents of violence and of drug and alcohol use;

(E) The percentage of graduates who enroll in postsecondary education, apprenticeships, or advanced training in the semester following graduation, and gaps in the percentage of all students who enroll in postsecondary education, apprenticeships, and advanced training and that of economically disadvantaged students, students from major racial and ethnic groups, students with disabilities, and students with limited English proficiency;

(2) (3 points) The applicant's planning activities will address effectively the needs it identified in paragraph (1);

(b) Foundation for planning (30 points). In determining whether there is an adequate foundation for the development of an effective implementation plan, we will consider the extent to which:

(1) (6 points) Teachers, administrators, and other school staff within each school support the proposed planning project and will be involved actively in the development of an implementation plan, including, particularly, those teachers who will be directly affected by the plan.

(2) (6 points) Teachers, administrators, and other school staff within each school will be provided sufficient and appropriate professional development to enable them to participate effectively in developing the implementation plan.

(3) (6 points) Teachers, administrators, and other school staff within each school will be provided sufficient paid release time during the regular school day or compensated time outside school hours to participate actively in professional development, planning, and preparatory activities.

(4) (6 points) Parents, students, and other community stakeholders (such as institutions of higher education, employers, and community organizations, including local non-profit agencies, faith-based organizations, and other service organizations) support the proposed planning project and will be involved actively in the development of an implementation plan.

(5) (6 points) The implementation or expansion of a smaller learning community program is consistent with, and will advance State and local initiatives to improve student achievement and narrow gaps in achievement between all students and students who are economically disadvantaged, students from major racial and ethnic groups, students with disabilities, and students with limited English proficiency.

(c) Quality of project design. (40 points) In evaluating the quality of the project design, we will consider the extent to which the applicant will adequately and effectively investigate and incorporate in its implementation plan:

(1) (10 points) Research-based strategies, services, and interventions that are likely to improve overall student achievement and other outcomes (including graduation and enrollment in postsecondary education) and narrow any gaps in achievement between all students and economically disadvantaged students, students from major racial and ethnic groups, students with disabilities, and students with limited English proficiency.

(2) (10 points) Research-based strategies, services, and interventions to accelerate learning by students who enter high school with reading/language arts or mathematics skills that are significantly below grade level so that, by no later than the end of the 10th grade, they acquire the reading/language arts and mathematics skills they need to participate successfully in rigorous academic courses that will equip them with the knowledge and skills necessary to transition successfully to postsecondary education, an apprenticeship, or advanced training.

(3) (10 points) A high-quality program of sustained and intensive professional development that will be provided to teachers, administrators, and school staff to assist them in carrying out the implementation plan.

(4) (10 points) Strategies for using funds provided under the ESEA, the Carl D. Perkins Vocational and Technical Education Act, or other Federal programs, as well as local, State, and private funds, to carry out the implementation plan.

(d) Adequacy of resources. (20 points) In determining the adequacy of the financial and personnel resources to support effective planning, we will consider the extent to which:

(1) (8 points) The budget is adequate and funds will be used appropriately and effectively to develop a comprehensive implementation plan.

(2) (6 points) The time commitments of the project director and other key project personnel are appropriate and adequate to achieve the objectives of the proposed project.

(3) (6 points) The qualifications, including relevant training and experience, of the project director and other key project personnel.

Implementation Grants

(a) Need for the project (10 points). In determining the need for the proposed project, we will consider the extent to which the applicant will:

(1) (5 points) Assist schools that have the greatest need for assistance, as indicated by, relative to other high schools within the State:

(A) Student performance on the academic assessments in reading/language arts and mathematics administered by the State under Part A, Title I of the ESEA;

(B) Gaps in the performance of all students and that of economically disadvantaged students, students from major racial and ethnic groups, students with disabilities, and students with limited English proficiency on the academic assessments in reading or language arts and mathematics administered by the State under Part A, Title I of the ESEA.

(C) The school's graduation rate, and gaps in the graduation rate between all students and economically disadvantaged students, students from major racial and ethnic groups, students with disabilities, and students with limited English proficiency.

(D) Disciplinary actions and reported incidents of violence and of drug and alcohol use;

(E) The percentage of graduates who enroll in postsecondary education, apprenticeships, or advanced training in the semester following graduation, and gaps in the percentage of students who enroll in postsecondary education, apprenticeships, and advanced training between all students and economically disadvantaged students, students from major racial and ethnic groups, students with disabilities, and students with limited English proficiency.

(2) (5 points) Employ strategies and carry out activities in its implementation of the proposed project that address the needs it has identified in paragraph (1);

(b) Foundation for Implementation (15 points). In determining the quality of the implementation plan for the proposed project, we will consider the extent to which:

(1) (3 points) Teachers within each school support the proposed project and have been and will continue to be involved in its planning, development, and implementation, including, particularly, those teachers who will be directly affected by the proposed project.

(2) (3 points) Administrators, teachers, and other school staff within each school support the proposed project and have been and will continue to be involved in its planning, development, and implementation.

(3) (3 points) Parents, students, and other community stakeholders (such as institutions of higher education, employers, and community organizations, including local non-profit agencies, faith-based organizations, and other service organizations) support the proposed project and have been and will continue to be involved in its planning, development, and implementation.

(4) (3 points) The proposed project is consistent with, and will advance, State and local initiatives to increase student achievement and narrow gaps in achievement between all students and students who are economically disadvantaged, students from major racial and ethnic groups, students with disabilities, or students with limited English proficiency.

(5) (3 points) The applicant demonstrates that it has reviewed relevant scientifically based and other rigorous research and carried out sufficient planning and preparatory activities, outreach, and consultation with teachers, administrators, and other stakeholders to enable it to implement the proposed project at the beginning of the school year immediately following receipt of an award.

(c) Quality of Project Design (30 points). In determining the quality of the design of the project we will consider the extent to which, using funds provided by this program in conjunction with other Federal, State, local, or private funds, the proposed project will:

(1) (6 points) Implement strategies, new organizational structures, or other changes in practice that are likely to create an environment in which a core group of teachers and other adults within the school know the needs, interests, and aspirations of each student well, closely monitor his or her progress, and provide the academic and other support he or she needs to succeed.

(2) (6 points) Implement research-based strategies, services, and interventions that are likely to improve overall student achievement and other outcomes (including graduation and enrollment in postsecondary education) and narrow any gaps in achievement between all students and economically disadvantaged students, students from major racial and ethnic groups, students with disabilities, or students with limited English proficiency, such as—

(A) More rigorous academic curriculum for all students, and the provision of academic support to struggling students who need assistance to master more challenging academic content;

(B) More intensive and individualized educational counseling and career and college guidance, provided through mentoring, teacher advisories, adult advocates, or other means;

(C) Strategies designed to increase average daily attendance, increase the percentage of students who transition from the 9th to 10th grade, and improve the graduation rate; and

(D) Expanding opportunities for students to participate in Advanced Placement courses and academic and technical courses that offer both high school and postsecondary credit.

(3) (6 points) Implement accelerated learning strategies and interventions that will assist students who enter the school with reading/language or mathematics skills that are significantly below grade level that—

(A) Will serve all students who enter the school with reading/language arts or mathematics skills that are significantly below grade level;

(B) Are designed to equip participating students with grade-level reading/language arts and mathematics skills by no later than the end of 10th grade;

(C) Are grounded in scientifically based research;

(D) Include the use of age-appropriate instructional materials and teaching and learning strategies;

(E) Provide additional instruction and academic support during the regular school day, which may be supplemented by instruction that is provided before or after school, on weekends, and at other times when school is not in session;

(F) Will be delivered with sufficient intensity to improve the reading/language arts or math skills, as appropriate, of participating students; and

(G) Include sustained professional development and ongoing support for teachers and other personnel who are responsible for delivering instruction.

(4) (6 points) Provide high-quality, sustained and intensive professional development throughout the project period that—

(A) Improves the content knowledge of teachers of core academic subjects;

(B) Includes activities designed to enable all teachers of core academic subjects to become “highly qualified” as defined by ESEA by the end of the project period;

(C) Advances the understanding of teachers, administrators, and other school staff of effective, research-based instructional strategies for improving the academic achievement of students, including, particularly, students with academic skills that are significantly below grade level;

(D) Provides teachers, administrators, other school personnel, and parents with the knowledge and skills they need to participate effectively in the development and implementation of a smaller learning community, including professional development that improves the capacity of teachers to deliver instruction and support students within a smaller learning community;

(5) (6 points) Provides the participating schools sufficient flexibility and autonomy to enable school administrators, teachers, other school staff, and parents to participate as full partners in the implementation of the proposed project.

(d) Quality of the Management Plan (25 points). In determining the quality of the management plan for the proposed project, we consider the following factors:

(1) (10 points) The adequacy of the management plan to achieve the objectives of the proposed project on time and within budget, including clearly defined responsibilities and detailed timelines and milestones for accomplishing project tasks.

(2) (5 points) The extent to which the time commitments of the project director and other key personnel, including the individuals who will have primary responsibility for implementing the project at each school, are appropriate and adequate to achieve the objectives of the proposed project.

(3) (5 points) The qualifications, including relevant training and experience, of the project director and other key personnel, including the individuals who will have primary responsibility for professional development and technical assistance, and the individuals responsible for implementing the project at each school.

(4) Adequacy of resources. (5 points) In determining the adequacy of resources for the proposed project, we consider:

(A) The extent to which the budget is adequate and costs are directly related to the objectives and design of the proposed project.

(B) The extent to which the applicant will use funds provided under the ESEA, the Carl D. Perkins Vocational and Technical Education Act, or other Federal programs, as well as discretionary grants provided by the State or private sources, to support the implementation of the project;

(C) The potential for continued support of the project after Federal funding ends.

(e) Quality of Project Evaluation. (20 points) In determining the quality of the project evaluation conducted by an independent, third party evaluator, we consider the following factors:

(1) (4 points) The extent to which the methods of evaluation are thorough, feasible, and appropriate to the goals, objectives, and outcomes of the proposed project.

(2) (4 points) The extent to which the evaluation will collect and annually report accurate, valid, and reliable data for each of the required performance indicators, including student achievement data that are disaggregated for economically disadvantaged students, students from major racial and ethnic groups, students with disabilities, and students with limited English proficiency.

(3) (4 points) The extent to which the evaluation will collect additional qualitative and quantitative data that will be useful in assessing the success and progress of implementation, including, at a minimum:

(A) The results of multiple measures of student academic achievement, including results that are disaggregated for economically disadvantaged students, students from major racial and ethnic groups, students with disabilities, students with limited English proficiency, and other subgroups identified by the applicant.

(B) Rates of average daily attendance, year-to-year retention, and graduation that are disaggregated for economically disadvantaged students, students from major racial and ethnic groups, students with disabilities, students with limited English proficiency, and other subgroups identified by the applicant.

(C) Information on the satisfaction and perspectives of teachers, administrators, parents, and students at each school.

(D) Information on the extent to which the school is providing a safe and orderly environment for learning, such as the number of disciplinary actions, incidents of violence or drug or alcohol use, or other indicators identified by the applicant.

(E) Information on the progress of the school in creating an environment in which a core group of teachers and other adults within the school know the needs, interests and aspirations of each student well, closely monitor his or her progress, and provide the academic and other support he or she needs to succeed.

(4) (4 points) The extent to which the methods of evaluation will provide timely and regular feedback to the LEA and the school on the success and progress of implementation, and identify areas for needed improvement.

(5) (4 points) The qualifications and relevant training and experience of the independent evaluator.

Discussion of Priorities

Note: In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1: Helping All Students To Succeed in Rigorous Academic Courses (Planning Grants)

This priority will support projects that will develop a plan to create or expand a smaller learning community program that will implement a coherent set of strategies and interventions that are designed to ensure that all students who enter high school with reading/language arts and mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Priority 2: Helping All Students To Succeed in Rigorous Academic Courses (Implementation Grants)

This priority will support projects that will implement a coherent set of strategies and interventions that are designed to ensure that all students who enter high school with reading/language arts or mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program)

Program Authority: 20 U.S.C. 7249.

Dated: March 9, 2004.
Susan Sclafani,
Assistant Secretary for Vocational and Adult Education.

[FR Doc. 04-5817 Filed 3-12-04; 8:45 am]

BILLING CODE 4000-01-P